DEPARTMENT OF HEALTH AND HUMAN SERVICES

Centers for Disease Control and Prevention

[30 Day-16-1074]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Colorectal Cancer Control Program (CRCCP) Monitoring Activities

—Reinstatement with Change (OMB No. 0920-1074, exp. 12/31/2015)

—National Center for Chronic Disease Prevention and Health Promotion (NCCDPHP), Centers for Disease Control and Prevention (CDC).

Background and Brief Description

CDC is requesting a reinstatement with change of the information collect project assigned OMB Control Number 0920-1074, formerly entitled “Annual Survey of Colorectal Cancer Control Activities Conducted by States and Tribal Organizations.” In the previous OMB approval period, information collection consisted of an annual grantee survey. In the next OMB approval period, information collection will consist of a redesigned survey and a new clinic-level information collection. The number of respondents will increase and the total estimated annualized burden will increase.

Among cancers that affect both men and women, colorectal cancer (CRC) is the second leading cause of death from cancer in the United States. CRC screening has been shown to reduce incidence of and death from the disease. Screening for CRC can detect disease early when treatment is more effective and prevent cancer by finding and removing precancerous polyps. Of individuals diagnosed with early stage CRC, more than 90% live five or more years. Despite strong evidence supporting screening, only 65% of adults currently report being up-to-date with CRC screening as recommended by the U.S. Preventive Services Task Force, with more than 22 million age-eligible adults estimated to be untested. To reduce CRC morbidity, mortality, and associated costs, use of CRC screening tests must be increased among age-eligible adults with the lowest CRC screening rates.

CDC's Colorectal Cancer Control Program (CRCCP) currently provides funding to 31 grantees under “Organized Approaches to Increase Colorectal Cancer Screening” (CDC-RFA-DP15-1502). CRCCP grantees include state governments or bona-fide agents, universities, and tribal organizations. The purpose of the new cooperative agreement program is to increase CRC screening rates among an applicant defined target population of persons 50-75 years of age within a partner health system serving a defined geographical area or disparate population.

The CRCCP was significantly redesigned in 2015 and has two components. Under Component 1, all 31 CRCCP grantees receive funding to support partnerships with health systems to implement up to four priority evidence-based interventions (EBIs) described in the Guide to Community Preventive Services, as well as other supporting strategies. Grantees must implement at least two EBIs in each partnering health system. Under Component 2, 6 of the 31 CRCCP grantees will provide direct screening and follow-up clinical services for a limited number of individuals aged 50-64 in the program's priority population who are asymptomatic, at average risk for CRC, have inadequate or no health insurance for CRC screening, and are low income.

Based on the redesigned CRCCP, the information collection plan has also been redesigned to address the two program components. The new cooperative agreement program (CDC-RFA-DP15-1502) requires that CDC monitor and evaluate the CRCCP and individual grantee performance using both process and outcome evaluation. Two forms are proposed. First, the CRCCP grantee survey was redesigned to align with new CRCCP goals. The grantee survey will be submitted to CDC annually. Second, CDC proposes to collect clinic-level information to assess changes in CDC's primary outcome of interest, i.e., CRC screening rates within partner health systems. Each grantee will complete a clinic-level collection template once per year. All information will be reported to CDC electronically.

The information collection will enable CDC to gauge progress in meeting CRCCP program goals and to monitor implementation activities, evaluate outcomes, and identify grantee technical assistance needs. In addition, findings will inform program improvement and help identify successful activities that need to be maintained, replicated, or expanded.

OMB approval is requested for three years. Participation is required for CRCCP awardees. In the pilot test for the CRCCP annual grantee survey, the average time to complete the instrument was approximately 45 minutes. In the pilot test for the CRCCP clinic-level information collection, the average time to complete the instrument was approximately 30 minutes. CDC estimates an average of 12 responses per grantee annually to correspond with the number of health system partners. The total estimated annualized burden hours are 209. There are no costs to respondents other than their time.

Estimated Annualized Burden Hours
Type of respondent | Form name | Number of respondents | Number of responses per respondent | Average burden per response (in hr)
CRCCP Grantees | CRCCP Annual Grantee Survey | 31 | 1 | 45/60
| CRCCP Clinic-level Information Collection Template | 31 | 12 | 30/60

Leroy A. Richardson,
Chief, Information Collection Review Office, Office of Scientific Integrity, Office of the Associate Director for Science, Office of the Director, Centers for Disease Control and Prevention.

[FR Doc. 2016-07225 Filed 3-30-16; 8:45 am]

BILLING CODE 4163-18-P